DEPARTMENT OF COMMERCE

National Oceanic and Atmospheric Administration

RIN 0648-XT13

Takes of Marine Mammals Incidental to Specified Activities; St. George Reef Light Station Restoration and Maintenance on Northwest Seal Rock, in the Northeast Pacific Ocean

AGENCY: National Marine Fisheries Service (NMFS), National Oceanic and Atmospheric Administration (NOAA), Commerce.

ACTION: Notice; issuance of incidental harassment authorization.

SUMMARY: In accordance with the regulations implementing the Marine Mammal Protection Act (MMPA) as amended, notification is hereby given that NMFS has issued an Incidental Harassment Authorization (IHA) to the St. George Reef Lighthouse Preservation Society (SGRLPS), to incidentally harass, by Level B harassment only, four species of marine mammals during the specified activity.

DATES: This authorization is effective from January 27, 2010, through April 30, 2010.

ADDRESSES: A copy of the IHA and the application are available by writing to P. Michael Payne, Chief, Permits, Conservation and Education Division, Office of Protected Resources, National Marine Fisheries Service, 1315 East-West Highway, Silver Spring, MD 20910-3225. A copy of the application may be obtained by writing to this address, by telephoning the contact listed here (FOR FURTHER INFORMATION CONTACT) or online at: http://www.nmfs.noaa.gov/pr/permits/incidental.htm#applications

Documents cited in this notice may be viewed, by appointment, during regular business hours, at the aforementioned address.

FOR FURTHER INFORMATION CONTACT: Jeannine Cody (301) 713-2289, ext. 113 or Monica DeAngelis, NMFS Southwest Region, (562) 980-3232.

SUPPLEMENTARY INFORMATION:

Background

Section 101(a)(5)(D) of the MMPA (16 U.S.C. 1371 (a)(5)(D)) directs the Secretary of Commerce to authorize, upon request, the incidental, but not intentional, taking by harassment of small numbers of marine mammals of a species or population stock, for periods of not more than one year, by United States citizens who engage in a specified activity (other than commercial fishing) within a specific geographic region if certain findings are made and, a notice of a proposed authorization is provided to the public for review.

Authorization for incidental taking of small numbers of marine mammals shall be granted if NMFS finds that the taking will have a negligible impact on the species or stock(s), and will not have an unmitigable adverse impact on the availability of the species or stock(s) for subsistence uses. The authorization must set forth the permissible methods of taking, other means of effecting the least practicable adverse impact on the species or stock and its habitat, and monitoring and reporting of such takings. NMFS has defined “negligible impact” in 50 CFR 216.103 as “an impact resulting from the specified activity that cannot be reasonably expected to, and is not reasonably likely to, adversely affect the species or stock through effects on annual rates of recruitment or survival.”

Section 101(a)(5)(D) of the MMPA established an expedited process by which citizens of the United States can apply for an authorization to incidentally take small numbers of marine mammals by harassment. Section 101(a)(5)(D) of the MMPA establishes a 45-day time limit for NMFS' review of an application followed by a 30-day public notice and comment period on any proposed authorizations for the incidental harassment of small numbers of marine mammals. Within 45 days of the close of the public comment period, NMFS must either issue or deny the authorization.

Except with respect to certain activities not pertinent here, the MMPA defines “harassment” as:

any act of pursuit, torment, or annoyance which (i) has the potential to injure a marine mammal or marine mammal stock in the wild [Level A harassment]; or (ii) has the potential to disturb a marine mammal or marine mammal stock in the wild by causing disruption of behavioral patterns, including, but not limited to, migration, breathing, nursing, breeding, feeding, or sheltering [Level B harassment].

Summary of Request

NMFS received an application from the SGRLPS for the taking by harassment, of marine mammals incidental to conducting helicopter operations, lighthouse restoration, and light maintenance activities on the St. George Reef Lighthouse Station (Station) in Del Norte County in California. SGRLPS aims to restore and preserve the Station which is listed in the National Park Service's National Register of Historic Places. The group must also perform annual maintenance on the Station's optical light system to renew a U.S. Coast Guard (USCG) Private Aid to Navigation (PATON) permit. The Station is located on Northwest Seal Rock (NWSR) (41° 50′ 24″ N, 124° 22′ 06″ W) approximately nine kilometers (km) (6.0 miles (mi)) offshore of Crescent City, California in the northeast Pacific Ocean.

Acoustic and visual stimuli generated by helicopter landings/takeoffs, noise generated during restoration activities (e.g., painting, plastering, welding, and glazing) and maintenance activities (e.g., bulb replacement and automation of the light system), and human presence, may have the potential to cause the pinnipeds hauled out on NWSR to flush into the surrounding water or to cause a short-term behavioral disturbance. These types of disturbances are the principal means of marine mammal taking associated with these activities and the SGRLPS has requested an authorization to take 204 California sea lions (Zalophus californianus); 36 Pacific Harbor seals (Phoca vitulina); 172 Steller sea lions (Eumetopias jubatus); and six northern fur seals (Callorhinus ursinus) by Level B harassment.

Description of the Specified Activity

SGRLPS will conduct the activities (helicopter operations, lighthouse restoration and light maintenance activities) on NWSR between January 27, 2010 and April 30, 2010, at a maximum frequency of one work session per month. The duration of each work session will be no more than three days (e.g., Friday, Saturday, and Sunday).

NMFS provided a detailed overview of the activity in the notice of the proposed IHA (74 FR 49852, September 29, 2009) and in Chapter 3 of NMFS' Environmental Assessment (EA). No changes have been made to the proposed activities.

Helicopter Operations

The SGRLPS will transport personnel and equipment from the California mainland to NWSR by a small helicopter. The helicopter will depart from Crescent City Airport and will transit to NWSR where it will land on top of the engine room (caisson). Acoustic tests on the helicopter's noise output measured a sound pressure level of 81.9 decibels (dB) re: 20 Pa (peak) (A-weighted) approximately 150 m from the ground. However, the helicopter has two-bladed main and tail rotors which are fitted with noise-attenuating blade tip caps that would decrease flyover noise.

The SGRLPS estimates that each work session would require no more than 36 helicopter landings. During landing, the work crew members will disembark from the helicopter and retrieve their equipment located in a basket attached to the underside of the aircraft. The helicopter would then return to the mainland to pick up additional personnel and equipment.

As a means of funding support for the restoration activities, the SGRLPS will conduct public tours of the Station during the last day of the restoration and maintenance activities. SGRLPS will transport visitors to the Station on Sunday. Although some of these flights would be conducted solely for the transportation of tourists, the SGRLPS will conduct those flights later in the day when no pinnipeds are expected to be on NWSR due to the animals dispersal from the haulout area caused by previous helicopter landings earlier in the day. No additional allowance is included for marine mammals that might be affected by additional flights for the transportation of tourists.

Lighthouse Restoration and Light Maintenance

Restoration activities will involve light construction (e.g., sanding, hammering, or use of hand drills) to: remove peeling paint and plaster; restore interior plaster and paint; refurbish and replace structural and decorative elements; replace glass; upgrade the present electrical system; replace the PATON beacon light; and automate the light system. Noise generated from these activities have the potential to disturb pinnipeds hauled out on NWSR.

Emergency Repair Event

If the PATON beacon light fails during the period January 27, 2010, through April 30, 2010, the SGRLPS would transport a small work crew to the Station by helicopter to repair the PATON beacon light. For each emergency repair event, the SGRLPS would conduct a maximum of four flights (two arrivals and two departures) to transport equipment and supplies. As in the case of helicopter operations and lighthouse restoration and maintenance conducted during the three-day work sessions, flights conducted for emergency repairs would have the potential to disturb pinnipeds hauled out on NWSR.

Comments and Responses

NMFS published a notice of receipt of the SGRLPS application and proposed IHA in the Federal Register on September 29, 2009 (74 FR 49852). During the 30-day comment period, NMFS received a letter from the Marine Mammal Commission (Commission) which recommended that NMFS issue the requested authorization, provided that the required monitoring and mitigation measures are carried out (e.g., restrictions on the timing and frequency of activities, restrictions on helicopter approaches, timing measures for helicopter landings, and measures to minimize acoustic and visual disturbances) as described in NMFS' September 29, 2009 (74 FR 49852), notice of the proposed IHA and the application. All measures proposed in the initial Federal Register notice are included in the authorization and NMFS has determined that they will effect the least practicable impact on the species or stocks and their habitats.

Marine Mammals Affected by the Activity

The marine mammal species most likely to be harassed incidental to helicopter operations, lighthouse restoration, and lighthouse maintenance on NWSR are the California sea lion, the Pacific Harbor seal, the eastern U.S. stock of Steller sea lion, and the eastern Pacific stock of northern fur seal. California sea lions and Pacific harbor seals are not listed as threatened or endangered under the ESA, nor are they categorized as depleted under the MMPA. Northern fur seals are not listed as threatened or endangered under the ESA. However, they are categorized as depleted under the MMPA.

Last, the Steller sea lion, eastern U.S. stock is listed as threatened under the ESA and is categorized as depleted under the MMPA. General information of these species can be found in the notice of the proposed IHA (74 FR 49852, September 29, 2009). The nearest Steller sea lion breeding area relative to the project site is at Southwest Seal Rock (41 49 00 N, 124 21 00 W) about 4 km (2.49 miles (mi)) south of NWSR. Although the rookery is just south of the Station, animals may continue to increase their use of NWSR over time; possibly as a pupping area, at some point in the future (R. Brown, pers. comm., 2006).

There are several endangered cetaceans that have the potential to transit in the vicinity of NWSR including the blue (Balaenoptera musculus), fin (Balaenoptera physalus), humpback (Megaptera novaeangliae), sei (Balaenoptera borealis), north Pacific right (Eubalena japonica), sperm (Physeter macrocephalus), and southern resident killer (Orcinus orca) whales. These species are typically found farther offshore of NWSR and are not considered further in this IHA.

California (southern) sea otters (Enhydra lutris nereis) usually range in coastal waters within two km of shore. However, sea otters are not present on NWSR (Crescent Coastal Research (CCR), 2001). This species is managed by the U.S. Fish and Wildlife Service and is not considered further in this IHA.

Potential Effects of the Activities on Marine Mammals

Level B harassment of pinnipeds has the potential to occur during helicopter approaches and departures from NWSR due to acoustic disturbances caused by the helicopters rotors and engine. It is likely that the initial helicopter approach to the Station would cause a subset, or all of the marine mammals hauled out on NWSR to depart the rock and flush into the water. The pinnipeds' movement into the water is expected to be gradual due to the required controlled helicopter approaches (see Mitigation), the small size of the helicopter, its relatively quiet rotors, and behavioral habituation on the part of the animals as helicopter trips continue throughout the day.

According to the CCR Report (2001), while up to 40 percent of the California and Steller sea lions present on the rock have been observed to enter the water on the first of a series of helicopter landings, as few as zero percent have flushed on subsequent landings on the same date.

During the sessions of helicopter activity, some animals may be temporarily displaced from the island and either raft in the water or relocate to other haul-outs. Sea lions have shown habituation to helicopter flight within a day at the project site and most animals are expected to return soon after helicopter activities cease for that day. By clustering helicopter arrivals and departures within a short time period, the pinnipeds are expected to show less response to subsequent landings (NMFS, 2010).

NMFS provided a detailed overview of: (1) the sound levels produced by the helicopter; (2) behavioral reactions of pinnipeds to helicopter operations and light construction noise; (3) hearing impairment and other non-auditory physical effects; (4) behavioral reactions to visual stimuli; (5) and specific observations gathered during previous monitoring of the marine mammals present on NWSR in the notice of the proposed IHA (74 FR 49852, September 29, 2009) and in Chapter 3 of NMFS' Environmental Assessment (EA).

Possible Effects of Activities on Marine Mammal Habitat

The SGRLPS does not anticipate any loss or modification to the habitat used by California sea lions, Steller sea lions, Pacific harbor seals, and northern fur seals that haul-out on NWSR. The SGRLPS will conduct helicopter operations and restoration and maintenance activities at elevations high enough to not disturb the geology and the water surrounding NWSR.

NMFS has designated EFH for groundfish species (or species assemblages) along more than 130,000 square miles of marine waters off the West Coast. EFH consists of both the water column and the underlying surface (e.g. seafloor) of a particular area. Although NWSR is located adjacent to the EFH (water column), the restoration and maintenance activities will occur from 11 m (37 ft) to 44.5m (146 ft) above the designated EFH for groundfish species. Hence, the effects of restoration and maintenance activities as well as the elevation and route of the helicopter operations would not occur in the surrounding water column and would not significantly impact fish populations or habitat. These activities are not likely to adversely affect EFH.

NMFS also considered the effects of issuing an IHA on target and non-target species, including invertebrates, fish, sea turtles, seabirds, sea otters, and marine mammals and their habitats. NMFS does not expect the action to affect an animal's susceptibility to predation, alter dietary preferences or foraging behavior, or change distribution or abundance of predators or prey.

Mitigation and Monitoring

In order to issue an incidental take authorization (ITA) under Section 101(a)(5)(D) of the MMPA, NMFS must set forth the permissible methods of taking pursuant to such activity, and other means of effecting the least practicable adverse impact on such species or stock and its habitat, paying particular attention to rookeries, mating grounds, and areas of similar significance, and on the availability of such species or stock for taking for certain subsistence uses. To reduce the potential for disturbance from visual and acoustic stimuli associated with the activities, the SGRLPS and/or its designees will undertake the following marine mammal mitigation and monitoring measures:

(1) Conduct restoration and maintenance activities at the St. George Reef Light Station at a maximum of one session per month between January 27, 2010, and April 30, 2010. Each restoration session would be no more than three days in duration. Maintenance of the light beacon will occur only in conjunction with the monthly restoration activities;

(2) Ensure that helicopter approach patterns to the St. George Reef Light Station will be such that the timing techniques are least disturbing to marine mammals. To the extent possible, the helicopter should approach Northwest Seal Rock when the tide is too high for the marine mammals to haul-out on Northwest Seal Rock;

(3) Avoid rapid and direct approaches by the helicopter to the Station by approaching Northwest Seal Rock at a relatively high altitude (e.g., 800 - 1,000 ft, or 244 - 305 m). Before the final approach, the helicopter shall circle lower, and approach from area where the density of pinnipeds is the lowest. If for any safety reasons (e.g., wind conditions or visibility) such helicopter approach and timing techniques cannot be achieved, the SGRLPS must abort the restoration and maintenance session for that day;

(4) Provide instructions to SGRLPS members, the restoration crew, and if applicable, to tourists, on appropriate conduct when in the vicinity of hauled-out marine mammals. The SGRLPS members, the restoration crew, and if applicable, tourists, will avoid making unnecessary noise while on Northwest Seal Rock and must not view pinnipeds around the base of the Station;

(5) Ensure that the door to the Station's lower platform shall remain closed and barricaded at all times;

(6) At least once during the period between November 1 and April 30 annually, a qualified, NMFS-approved biologist shall be present during all three workdays at the Station. This requirement may be modified depending on the results of the monthly monitoring reports. The biologist shall document use of the island by the marine mammals (i.e., dates, time, tidal height, species, numbers present, frequency of use, weather conditions, and any disturbances), and note any responses to potential disturbances;

(7) In the case of an emergency repair event (i.e., failure of the PATON beacon light) between January 27, 2010 and April 30, 2010, the SGRLPS must consult with the Assistant Regional Administrator (ARA) for Protected Resources, Southwest Region, NMFS, to best determine the timing of an emergency repair trip to the Station. The Southwest Region NMFS fishery biologist will make a decision regarding when the SGRLPS can schedule helicopter trips to the Station during the emergency repair time window and will ensure that such operations will have the least practicable adverse impact to marine mammals. The ARA for Protected Resources, Southwest Region, NMFS will ensure that the SGRLPS' request for incidental take during an emergency repair event will not exceed the number of incidental take authorized in this IHA;

(8) The SGRLPS will employ a skilled, aerial photographer to document marine mammals hauled out on Northwest Seal Rock for comparing marine mammal presence on Northwest Seal Rock pre- and post-restoration. The photographer will complete a photographic survey of Northwest Seal Rock using the same helicopter that will transport SGRLPS personnel to the island during restoration trips. For a pre-restoration survey, photographs of all marine mammals hauled-out on the island shall be taken at an altitude greater than 300 m (984 ft) during the first arrival flight to Northwest Seal Rock. For the post-restoration survey, photographs of all marine mammals hauled-out on the island shall be taken at an altitude greater than 300 m (984 ft) during the last departure flight from Northwest Seal Rock;

(9) The SGRLPS and/or its designees will forward the photographs to a biologist capable of discerning marine mammal species. Data shall be provided to NMFS in the form of a report with a data table, any other significant observations related to marine mammals, and a report of restoration activities (see Reporting). The SGRLPS will make available the original photographs to NMFS or to other marine mammal experts for inspection and further analysis.

NMFS has carefully evaluated the applicant's proposed mitigation measures and considered a range of other measures in the context of ensuring that NMFS prescribes the means of effecting the least practicable adverse impact on the affected marine mammal species and stocks and their habitat. Our evaluation of potential measures included consideration of the following factors in relation to one another: (1) the manner in which, and the degree to which, the successful implementation of the measure is expected to minimize adverse impacts to marine mammals; (2) the proven or likely efficacy of the specific measure to minimize adverse impacts as planned; and (3) the practicability of the measure for applicant implementation.

Based on our evaluation of the applicant's proposed measures, as well as other measures considered by NMFS or recommended by the public, NMFS has determined that the required mitigation measures provide the means of effecting the least practicable adverse impacts on marine mammals species or stocks and their habitat, paying particular attention to rookeries, mating grounds, and areas of similar significance.

Reporting

In order to issue an ITA for an activity, Section 101(a)(5)(D) of the MMPA states that NMFS must set forth “requirements pertaining to the monitoring and reporting of such taking”. The MMPA implementing regulations at 50 CFR 216.104 (a)(13) indicate that requests for IHAs must include the suggested means of accomplishing the necessary monitoring and reporting that will result in increased knowledge of the species and of the level of taking or impacts on populations of marine mammals that are expected to be present in the action area.

The SGRLPS is required to submit an interim report on all activities and monitoring results to the ARA for Protected Resources, Southwest Region, NMFS, and to the Chief, Permits, Conservation, and Education Division, Office of Protected Resources, NMFS, no later than 30 days after the conclusion of each monthly work session. This report must contain the following information: (1) a summary of the dates, times, and weather during all helicopter operations, and restoration and maintenance activities; (2) species, number, location, and behavior of any marine mammals, observed throughout all monitoring activities; (3) an estimate of the number (by species) of marine mammals that are known to have been exposed to visual and acoustic stimuli associated with the helicopter operations, restoration and maintenance activities; and (4) a description of the implementation and effectiveness of the monitoring and mitigation measures of the IHA and full documentation of methods, results, and interpretation pertaining to all monitoring.

The SGRLPS is required to submit a final monitoring report to NMFS no later than 90 days after the project is completed to the ARA for Protected Resources, Southwest Region, NMFS, and to the Chief, Permits, Conservation, and Education Division, Office of Protected Resources, NMFS. The report must contain the following information: (1) a summary of the dates, times, and weather during all helicopter operations, restoration, and maintenance activities; (2) species, number, location, and behavior of any marine mammals, observed throughout all monitoring activities; (3) an estimate of the number (by species) of marine mammals that are known to have been exposed to visual and acoustic stimuli associated with the helicopter operations, restoration, and maintenance activities; (4) a description of the implementation and effectiveness of the monitoring and mitigation measures of the IHA and full documentation of methods, results, and interpretation pertaining to all monitoring.

In the event of any observed Steller sea lion injury, mortality, or the presence of newborn pup (which is highly unlikely), SGRLPS and/or its designees must immediately cease operations and notify the ARA for Protected Resources, Southwest Region, NMFS at (562) 980-4020; and the Chief, Permits, Conservation and Education Division, Office of Protected Resources, NMFS, at (301) 713-2289.

Estimated Take by Incidental Harassment

Except with respect to certain activities not pertinent here, the MMPA defines “harassment” as:

any act of pursuit, torment, or annoyance which (i) has the potential to injure a marine mammal or marine mammal stock in the wild [Level A harassment]; or (ii) has the potential to disturb a marine mammal or marine mammal stock in the wild by causing disruption of behavioral patterns, including, but not limited to, migration, breathing, nursing, breeding, feeding, or sheltering [Level B harassment].

Only take by Level B harassment is anticipated and authorized as a result of the helicopter operations, restoration, and maintenance activities. Acoustic and visual stimuli generated by helicopter landings/takeoffs; noise generated during restoration activities and maintenance activities have the potential to cause the pinnipeds hauled out on NWSR to flush into the surrounding water or to cause a short-term behavioral disturbance. There is no evidence that the planned activities could result in serious injury or mortality. The required mitigation and monitoring measures will minimize any potential risk to injury or mortality.

NMFS estimates that a maximum of 204 California sea lions, 172 Steller sea lions, 36 Pacific harbor seals, and 6 northern fur seals could be potentially affected by Level B harassment over the course of the IHA. Estimates of the numbers of marine mammals that might be affected are based on consideration of 100 percent of the pinnipeds present on NWSR that could be disturbed by approximately 42 hrs of helicopter operations each month, during the course of the activity. These estimates are also based on pinniped survey counts conducted by CCR on NWSR in the spring of 1997, 1998, 1999, and 2000 (CCR, 2001), calculated for the population variance (Steller sea lions) or for the average monthly abundance (California sea lions, Pacific harbor seals, and northern fur seals) between November 1 and April 30 annually. These incidental harassment take numbers represent 0.14 percent of the U.S. stock of California sea lion, 0.42 percent of the eastern U.S. stock of Steller sea lion, 0.11 percent of the California stock of Pacific harbor seals, and 0.06 percent of the San Miguel Island stock of northern fur seal.

NMFS expects that the individual animals hauled out and harassed upon exposure to the first helicopter flight of the day will be the same animals hauled out on NWSR over the course of each three-day work period, due to high site fidelity, which is defined herein as an individual animal's continued use of the same haul out area over a specific period of time.

Take estimates for the California sea lions, Pacific harbor seals, and northern fur seals are based on the average monthly abundance (CCR, 2001) of the total number of animals expected to be hauled out on NWSR. The average monthly abundance for each species is then multiplied by six to account for the monthly sessions of restoration and maintenance activities conducted between November 1st and April 30th to arrive at the total take number for each species. Each animal has the potential to be exposed and potentially harassed multiple times on the same day (i.e., 12 harassment events on the first day, two harassment events on the second day, and 22 harassment events on the final day). However, NMFS' take numbers represent the total number of individual marine mammals expected to be harassed by the helicopter operations, and restoration and maintenance activities, not the total number of exposure/harassment events.

Estimates of the number of Steller sea lions that might be present on NWSR during the three-day work period do not exist. Therefore, to account for variability of Steller sea lion presence throughout the six months of the restoration and maintenance activities, NMFS estimated the population variance for Steller sea lions hauled out during the six month period by using a two-tailed test statistical test (at a 95 percent confidence level) to infer the upper range of Steller sea lions present on NWSR (i.e., 172 individuals). NMFS expects the haul out areas on NWSR to be inundated by waves during the winter months thereby reducing the available haul out space and as a result, the number of Steller sea lions hauled out. Accordingly, these take estimates are likely a gross overestimate of the number of animals expected to be hauled out at Northwest Seal Rock, during the six monthly sessions of restoration and maintenance activities conducted between November 1st and April 30th.

Negligible Impact and Small Numbers Analysis and Determination

NMFS has defined “negligible impact” in 50 CFR 216.103 as “...an impact resulting from the specified activity that cannot be reasonably expected to, and is not reasonably likely to, adversely affect the species or stock through effects on annual rates of recruitment or survival.” In making a negligible impact determination, NMFS considers: (1) the number of anticipated mortalities; (2) the number and nature of anticipated injuries; (3) the number, nature, and intensity, and duration of Level B harassment; and (4) the context in which the takes occur.

As mentioned previously, NMFS estimates that a maximum of 204 California sea lions, 172 Steller sea lions, 36 Pacific harbor seals, and 6 northern fur seals could be potentially affected by Level B harassment over the course of the IHA. These incidental harassment take numbers represent 0.14 percent of the U.S. stock of California sea lion, 0.42 percent of the eastern U.S. stock of Steller sea lion, 0.11 percent of the California stock of Pacific harbor seals, and 0.06 percent of the San Miguel Island stock of northern fur seal. For each species, these numbers are small relative to the population size.

No injuries or mortalities are anticipated to occur as a result of the SGRLPS' planned helicopter operations, restoration, and maintenance activities, and none are authorized. Takes will be limited to Level B behavioral harassment over a three-day period at maximum frequency of one session a month.

NMFS does not expect the activity to impact rates of recruitment or survival of the pinnipeds since no mortality (which would remove individuals from the population) or injury is anticipated to occur. Only short-term Level B harassment is anticipated to occur over a very short period of time (maximum of three days), occurring at very limited times of the day. Additionally, the activity will occur at a time of year when breeding does not occur.

NMFS has determined, provided that the aforementioned mitigation and monitoring measures are implemented, that the impact of conducting helicopter operations, restoration, and maintenance activities on St. George Reef Light Station located on NWSR may result, at worst, in a temporary modification in behavior and/or low-level physiological effects (Level B harassment) of small numbers of certain species of marine mammals.

While behavioral modifications, including temporarily vacating the area during the lighthouse restoration and maintenance period, may be made by these species to avoid the resultant helicopter landing/takeoff and visual disturbance from human presence, the availability of alternate areas within these areas and haulout sites, and the short and sporadic duration of the restoration and maintenance activities, have led NMFS to determine that this action will have a negligible impact on Steller sea lions, California sea lions, Pacific harbor seals, and northern fur seals.

Based on the analysis contained herein of the likely effects of the specified activity on marine mammals and their habitat, and taking into consideration the implementation of the mitigation and monitoring measures, NMFS finds that the SGRLPS' planned helicopter operations, restoration, and maintenance activities will result in the incidental take of small numbers of marine mammals, by Level B harassment only, and that the total taking from helicopter operations, restoration, and maintenance activities exercise will have a negligible impact on the affected species or stocks.

Impact on Availability of Affected Species or Stock for Taking for Subsistence Uses

There are no relevant subsistence uses of marine mammals implicated by this action.

Endangered Species Act (ESA)

The Steller sea lion, eastern Distinct Population Segment (DPS) is listed as threatened under the ESA and occurs in the planned action area. NMFS Headquarters' Office of Protected Resources, Permits, Conservation, and Education Division conducted a formal section 7 consultation under the ESA with the Southwest Region, NMFS. On January 27, 2010, the Southwest Region issued a Biological Opinion (BiOp) and concluded that the issuance of an IHA is likely to adversely affect, but not likely to jeopardize the continued existence of Steller sea lions. NMFS has designated critical habitat for the eastern Distinct Population Segment of Steller sea lions in California at Ao Nuevo Island, Southeast Farallon Island, Sugarloaf Island and Cape Mendocino, California pursuant to section 4 of the ESA (see 50 CFR 226.202(b)). Northwest Seal Rock is neither within nor nearby these designated areas. Finally, the BiOp included an incidental take statement (ITS) for Steller sea lions. The ITS contains reasonable and prudent measures implemented by terms and conditions to minimize the effects of this take.

National Environmental Policy Act (NEPA)

To meet NMFS' NEPA requirements for the issuance of an IHA to the SGRLPS, NMFS has prepared an Environmental Assessment (EA) that is specific to conducting aircraft operations and restoration and maintenance work on the St. George Reef Light Station. NMFS has prepared an Environmental Assessment (EA) titled Issuance of an Incidental Harassment Authorization to Take Marine Mammals by Harassment Incidental to Conducting Aircraft Operations, Lighthouse Restoration and Maintenance Activities on St. George Reef Lighthouse Station in Del Norte County, California, that evaluates the impacts on the human environment of NMFS' authorization of incidental Level B harassment resulting from the specified activity in the specified geographic region. The NMFS has made a Finding of No Significant Impact (FONSI) and, therefore, it is not necessary to prepare an environmental impact statement for the issuance of an IHA to SGRLPS for this activity. A copy of the EA and the NMFS FONSI for this activity is available upon request (see ADDRESSES). A copy of the EA and the NMFS FONSI for this activity is available upon request (see ADDRESSES).

Authorization

As a result of these determinations, NMFS has issued an IHA to the SGRLPS to conduct helicopter operations and restoration and maintenance work on the St. George Reef Light Station on Northwest Seal Rock in the northeast Pacific Ocean during January 27, 2010 through April 30, 2010, provided the previously mentioned mitigation, monitoring, and reporting requirements are incorporated.

Dated: January 25, 2010.
Helen M. Golde,
Deputy Director, Office of Protected Resources, National Marine Fisheries Service.

[FR Doc. 2010-1906 Filed 1-28-10; 8:45 am]

BILLING CODE 3510-22-S